DEPARTMENT OF EDUCATION

[Docket No.: ED-2021-SCC-0127]

Agency Information Collection Activities; Submission to the Office of Management and Budget for Review and Approval; Comment Request; Third Party Authorization Form.

AGENCY: Federal Student Aid (FSA), Department of Education (ED).

ACTION: Notice.

SUMMARY: In accordance with the Paperwork Reduction Act of 1995, ED is proposing a new information collection.

DATES: Interested persons are invited to submit comments on or before March 31, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Beth Grebeldinger, 202-570-8414.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Third Party Authorization Form.

OMB Control Number: 1845-NEW.

Type of Review: A new information collection.

Respondents/Affected Public: Individuals or Households.

Total Estimated Number of Annual Responses: 25,000.

Total Estimated Number of Annual Burden Hours: 100,000.

Abstract: This is a request for a new information collection for a third-party authorization form to be used by federal student loan borrowers to designate or revoke a designation of an individual or organization to represent the borrower in matters related to their federally held student loans. The Department has revised the initially proposed form. This revised form will continue to standardize the way that borrowers provide privacy act releases and authorization for a third party to take action on borrowers' federal student loan accounts held by various servicers. This will standardize processes and help borrowers and their third-party representatives when loans transfer between servicers. This information collection stems from the Privacy Act of 1974 and the common law legal principles of agency, which is not reflected in the Department's statute or regulations, but with which the Department must comply or which the Department supports.

Dated: February 24, 2022.
Kate Mullan,
PRA Coordinator, Strategic Collections and Clearance Governance and Strategy Division, Office of Chief Data Officer, Office of Planning, Evaluation and Policy Development.

[FR Doc. 2022-04226 Filed 2-28-22; 8:45 am]

BILLING CODE 4000-01-P